DEPARTMENT OF ENERGY

Federal Energy Regulatory Commission

Combined Notice of Filings #1

Take notice that the Commission received the following electric rate filings:

Docket Numbers: ER11-3972-002.

Applicants: PJM Interconnection, L.L.C.

Description: Compliance Filing per September 15, 2011 Order in ER11-3972 re Order No. 741 to be effective 12/13/2011.

Filed Date: 11/29/11.

Accession Number: 20111129-5150.

Comments Due: 5 p.m. ET 12/20/11.

Docket Numbers: ER11-4459-001.

Applicants: El Paso Electric Company.

Description: Compliance Filing of Revisions to OATT Attachment M to be effective 11/1/2011.

Filed Date: 11/30/11.

Accession Number: 20111130-5185.

Comments Due: 5 p.m. ET 12/21/11.

Docket Numbers: ER11-4498-002; ER11-4499-002; ER11-4500-002; ER11-4507-002; ER11-4501-002.

Applicants: Smoky Hills Wind Farm, LLC, Smoky Hills Wind Project II, LLC, Enel Stillwater, LLC, Caney River Wind Project, LLC, Canastota Windpower, LLC.

Description: Notice of Non-Material Change in Status re Smoky Hills Wind Farm, LLC, et al.

Filed Date: 11/29/11.

Accession Number: 20111129-5201.

Comments Due: 5 p.m. ET 12/20/11.

Docket Numbers: ER12-226-000.

Applicants: Asset and Energy Cost Saving Cooperative, Kipcon, Inc.

Description: Supplemental Information of Kipcon, Inc.

Filed Date: 11/30/2011.

Accession Number: 20111130-5229.

Comment Date: 5 p.m. ET 12/21/11.

Docket Numbers: ER12-378-001.

Applicants: South Carolina Electric & Gas Company.

Description: Revised 3 TAP Agreements—Compliance filing to be effective 11/10/2011.

Filed Date: 11/30/11.

Accession Number: 20111130-5004.

Comments Due: 5 p.m. ET 12/21/11.

Docket Numbers: ER12-421-001.

Applicants: Heritage Garden Wind Farm I, LLC.

Description: Amendment to MBR Application to be effective 12/31/2011.

Filed Date: 11/30/11.

Accession Number: 20111130-5024.

Comments Due: 5 p.m. ET 12/21/11.

Docket Numbers: ER12-481-000.

Applicants: ISO New England Inc.

Description: Amend to Agreements of Phase I/II HVDC to be effective 1/29/2012.

Filed Date: 11/29/11.

Accession Number: 20111129-5038.

Comments Due: 5 p.m. ET 12/20/11.

Docket Numbers: ER12-482-000.

Applicants: Arizona Public Service Company.

Description: Service Agreement No. 311, revision of EPC activities with NTUA to be effective 11/30/2011.

Filed Date: 11/29/11.

Accession Number: 20111129-5147.

Comments Due: 5 p.m. ET 12/20/11.

Docket Numbers: ER12-483-000.

Applicants: The Empire District Electric Company.

Description: Compliance Filing ER10-877: GFR Tariff, SA Nos. 1-4, Rate Schedule Nos. 5-8 to be effective 9/17/2010.

Filed Date: 11/29/11.

Accession Number: 20111129-5174.

Comments Due: 5 p.m. ET 12/20/11.

Docket Numbers: ER12-484-000.

Applicants: PacifiCorp.

Description: DGT ARTSOA Rev 4 to be effective 1/29/2012.

Filed Date: 11/29/11.

Accession Number: 20111129-5180.

Comments Due: 5 p.m. ET 12/20/11.

Docket Numbers: ER12-485-000.

Applicants: PacifiCorp.

Description: Deseret Control Area Services Agreement Cancellation to be effective 1/29/2012.

Filed Date: 11/29/11.

Accession Number: 20111129-5185.

Comments Due: 5 p.m. ET 12/20/11.

Docket Numbers: ER12-486-000.

Applicants: Southern California Edison Company.

Description: LGIA Antelope Valley Solar PV1 Project—Solar Star California XIX, LLC to be effective 12/1/2011.

Filed Date: 11/30/11.

Accession Number: 20111130-5000.

Comments Due: 5 p.m. ET 12/21/11.

Docket Numbers: ER12-487-000.

Applicants: Dairyland Power Cooperative.

Description: Supply and Voltage Control from Generation Sources to be effective 2/1/2012.

Filed Date: 11/30/11.

Accession Number: 20111130-5002.

Comments Due: 5 p.m. ET 12/21/11.

Docket Numbers: ER12-489-000.

Applicants: City of Azusa, California.

Description: City of Azusa TRR & TO Tariff Revisions to be effective 12/1/2011.

Filed Date: 11/30/11.

Accession Number: 20111130-5135.

Comments Due: 5 p.m. ET 12/21/11.

Docket Numbers: ER12-489-000.

Applicants: City of Azusa, California.

Description: Work Paper Filing under City of Azusa, California..

Filed Date: 11/30/11.

Accession Number: 20111130-5186.

Comments Due: 5 p.m. ET 12/21/11.

Docket Numbers: ER12-490-000.

Applicants: PJM Interconnection, L.L.C.

Description: Original Service Agreement No. 3143; Queue No. W4-059 to be effective 11/1/2011.

Filed Date: 11/30/11.

Accession Number: 20111130-5137.

Comments Due: 5 p.m. ET 12/21/11.

Docket Numbers: ER12-491-000

Applicants: Bangor Hydro Electric Company, ISO New England Inc.

Description: BHE and ISO NE Amended and Restated LSA to be effective 11/1/2011.

Filed Date: 11/30/11.

Accession Number: 20111130-5138.

Comments Due: 5 p.m. ET 12/21/11.

Docket Numbers: ER12-492-000.

Applicants: Florida Power Corporation.

Description: Notice of Cancellation of Rate Schedule No. 116 of Florida Power Corporation.

Filed Date: 11/30/11.

Accession Number: 20111130-5189.

Comments Due: 5 p.m. ET 12/21/11.

Docket Numbers: ER12-493-000.

Applicants: Florida Power Corporation.

Description: Notice of Cancellation of Rate Schedule No. 120 of Florida Power Corporation.

Filed Date: 11/30/11.

Accession Number: 20111130-5190.

Comments Due: 5 p.m. ET 12/21/11.

Docket Numbers: ER12-494-000.

Applicants: PJM Interconnection, L.L.C.

Description: PJM Interconnection, L.L.C. submits tariff filing per 35.13(a)(2)(iii: First Revised Service Agreement No. 2389; Queue No. V3-024 to be effective 11/1/2011.

Filed Date: 11/30/11.

Accession Number: 20111130-5211.

Comments Due: 5 p.m. ET 12/21/11.

Take notice that the Commission received the following electric reliability filings:

Docket Numbers: RR12-3-000.

Applicants: North American Electric Reliability Corporation.

Description: Petition for Approval of Revisions to the Rules of Procedure of the North American Electric Reliability Corporation.

Filed Date: 11/29/11.

Accession Number: 20111129-5207.

Comments Due: 5 p.m. ET 12/20/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2011.
Nathaniel J. Davis, Sr.,
Deputy Secretary.

[FR Doc. 2011-31382 Filed 12-6-11; 8:45 am]

BILLING CODE 6717-01-P